POSTAL SERVICE

39 CFR Part 265

Release of Information

AGENCY: Postal Service.

ACTION: Final rule.

SUMMARY: This final rule changes the procedures for the release of information about holders of postage meter licenses. The procedures are necessary to ensure individual privacy while providing for the release of information needed for customer protection.

DATES: This rule is effective July 15, 2002.

FOR FURTHER INFORMATION CONTACT: Wayne Wilkerson, 703-292-3782, or by fax, 703-292-4050.

SUPPLEMENTARY INFORMATION: The Postal Service published a proposed rule on May 9, 2002, to amend 39 CFR part 265, Release of Information, giving new procedures for releasing the name and address of a particular holder of a postage meter license. The new procedures will ensure that legitimate expectations of individual privacy are met, while providing for the release of information needed for consumer protection. The new procedures remove the processing of requests for information about meter license holders from field locations, and enables Postage Technology Management at Postal Service Headquarters to ensure that information is released appropriately. Comments on the proposed rule were due on or before June 10, 2002. We received no comments objecting to the proposed rule or requesting any changes. Therefore, the rule is adopted as final without any changes.

List of Subjects in 39 CFR Part 265

Administrative practice and procedure, Postal Service.

The Amendment

For the reasons set out in this document, the Postal Service is amending 39 CFR part 265 as follows:

PART 265—RELEASE OF INFORMATION

1. The authority citation for part 265 continues to read as follows:

Authority: 5 U.S.C. 552; 5 U.S.C. App. 3, 39 U.S.C. 401, 403, 410, 1001, 2601.

2. Amend § 265.6 by revising paragraphs (d) introductory text and (d)(2); by redesignating paragraphs (d)(3) through (d)(8) as paragraphs (d)(4) through (d)(9), respectively; and by adding a new paragraph (d)(3) to read as follows:

§ 265.6 Availability of records.

* * * * *

(d) Disclosure of names and addresses of customers. Upon request, the names and addresses of specifically identified Postal Service customers will be made available only as follows:

* * * * *

(2) Name and address of permit holder. The name and address of the holder of a particular bulk mail permit, permit imprint or similar permit (but not including postage meter licenses), and the name of any person applying for a permit in behalf of a holder will be furnished to any person upon the payment of any fees authorized by paragraph (b) of § 265.9. For the name and address of a postage meter license holder, see paragraph (d)(3) of this section. (Lists of permit holders may not be disclosed to members of the public. See paragraph (e)(1) of this section.)

(3) Name and address of postage meter license holder. The name and address of the holder of a postage meter license authorizing use of a postage meter printing a specified indicium will be furnished to any person upon the payment of any fees authorized by paragraph (b) of § 265.9, provided the holder is using the license for a business or firm. The request for this information must be sent to the manager of Postage Technology Management, Postal Service Headquarters. The request must include the original or a photocopy of the envelope or wrapper on which the meter indicium in question is printed, and a copy or description of the contents to support that the sender is a business or firm and not an individual. (Lists of postage meter license holders may not be disclosed to members of the public. See paragraph (e)(1) of this section.)

* * * * *

Stanley F. Mires,
Chief Counsel, Legislative.

[FR Doc. 02-17712 Filed 7-12-02; 8:45 am]

BILLING CODE 7710-12-P